FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 26, 2014.

A. Federal Reserve Bank of Kansas City (Dennis Denney, Assistant Vice President) 1 Memorial Drive, Kansas City, Missouri 64198-0001:

1. The Jeffrey F. Whitham Revocable Trust, Patricia M. Whitham and Tyler F. Whitham, as trustees and to become members of the Whitham Control Group, all of Garden City, Kansas; to acquire voting shares of Whitcorp Financial Company, Leoti, Kansas, and thereby indirectly acquire voting shares of Western State Bank, Garden City, Kansas, and Frontier Bank, Lamar, Colorado.

Board of Governors of the Federal Reserve System, September 8, 2014.
Michael J. Lewandowski,
Associate Secretary of the Board.

[FR Doc. 2014-21715 Filed 9-11-14; 8:45 am]

BILLING CODE 6210-01-P